POSTAL SERVICE

Sunshine Act Meeting

Dates and Times: Monday, November 3, 2003; 10:30 a.m. and 3 p.m.

Place: Washington, DC, at U.S. Postal Service Headquarters, 475 L'Enfant Plaza, SW., in the Benjamin Franklin Room.

Status: November 3—10:30 a.m. (Closed); 3 p.m. (Open).

Matters To Be Considered:

Monday, November 3—10:30 a.m. (Closed)

1. Financial Transparency.

2. Strategic Planning.

3. Personnel Matters and Compensation Issues.

Monday, November 3—3 p.m. (Open)

1. Minutes of the Previous Meeting, October 2-3, 2003.

2. Remarks of the Postmaster General and CEO.

3. Quarterly Report on Service Performance.

4. Capital Investments.

a. Accounts Payable Replacement System.

b. 120 Automatic Flats Tray Lidders.

c. 2,014 Cargo Vans.

5. Tentative Agenda for the December 8-9, 2003, meeting in Washington, DC.

FOR FURTHER INFORMATION CONTACT: William T. Johnstone, Secretary of the Board, U.S. Postal Service, 475 L'Enfant Plaza, SW., Washington, DC 20260-1000. Telephone (202) 268-4800.

William T. Johnstone,
Secretary.

[FR Doc. 03-27083 Filed 10-22-03; 3:58 pm]

BILLING CODE 7710-12-M